ENVIRONMENTAL PROTECTION AGENCY

[ER-FRL-6613-2]

Environmental Impact Statements; Notice of Availability

Responsible Agency: Office of Federal Activities, General Information (202) 564-7167 or hHp://www.epa.gov/oeca/ofa.

Weekly receipt of Environmental Impact Statements

Filed November 20, 2000 Through November 24, 2000

Pursuant to 40 CFR 1506.9.

EIS No. 000407, FINAL EIS, AFS, WA, Stimson Alaska National Interest Lands Conservation Act (ANILCA) Access Easement Project, Easement Authorization Grant for Construction, Reconstruction and Use of Seven Road Segments for Hauling Logs and Resource Management, Colville National Forest, Sullivan Ranger District, Pend Oreille County, WA, Due: January 05, 2001, Contact: Fred C. Gonzalez (509) 446-7500.

EIS No. 000408, DRAFT EIS, AFS, CA, Mammoth Creek Revised Instream Flow Requirements, Implementation for Point of Measurement and Place of Use, Mammoth Lakes, Mono County, CA , Due: January 31, 2001, Contact: Jeff Bailey (760) 873-2400.

EIS No. 000409, FINAL SUPPLEMENT, NOA, FL, Florida Keys National Marine Sanctuary (FKNMS) Comprehensive Management Plan, Updated Information concerning a Proposal to Establish a No-Take Ecological Reserve in the Tortugas Region, FL , Due: January 02, 2001, Contact: Bill Causey (305) 743-2437.

EIS No. 000410, DRAFT EIS, HUD, NY, 1105-1135 Warburton Avenue, River Club Apartment Complex Development and Operation, Funding, City of Yonkers, Westchester County, NY , Due: January 16, 2001, Contact: Lee Ellman (914) 377-6557.

EIS No. 000411, DRAFT EIS, FHW, OH, OH-7 (LAW-7) Relocation, OH-7 and OH-527 to a point Northeast of Rome Township and OH-607 from East Huntington Bridge to an Interchange with proposed OH-7 and OH-775, Funding, Lawrence County, OH , Due: January 16, 2001, Contact: Andy Garnes (614) 280-6856.

EIS No. 000412, FINAL SUPPLEMENT, FHW, NB, US Highway 75 Roadway Improvement, Murray, Nebraska (Highway N-1) to Bellevue, Nebraska (Fairview Road), Updated Information concerning Project Changes and Changes to the Existing Environmental Setting, Funding, Cass and Sarpy Counties, NB, Due: January 02, 2001, Contact: Edward W. Kosola (402) 437-5521.

EIS No. 000413, DRAFT EIS, JUS, TX, Immigration and Naturalization Service (INS) Detention Facility Construction in the Houston Area, TX, Due: January 16, 2001, Contact: Kevin Feeney (202) 353-9412.

EIS No. 000414, DRAFT EIS, BLM, NM, Santo Domingo Pueblo and Bureau of Land Management Proposed Land Exchange Project, Sandoval and Santa Fe Counties, NM , Due: January 16, 2001, Contact: Debby Lucero (505) 761-8787.

EIS No. 000415, FINAL EIS, SFW, CA, San Joaquin County Multi-Species Habitat Conservation and Open Space Plan, Issuance of Incidental Take Permit, San Joaquin County, CA , Due: January 02, 2001, Contact: Ben Harrison (503) 231-2068.

Dated: November 28, 2000.
Joseph C. Montgomery,
Director, NEPA Compliance Division, Office of Federal Activities

[FR Doc. 00-30687 Filed 11-30-00; 8:45 am]

BILLING CODE 6560-50-U